DEPARTMENT OF COMMERCE

International Trade Administration

[A-570-827]

Certain Cased Pencils From the People's Republic of China: Extension of Time Limit for the Final Results of the Antidumping Duty Administrative Review

AGENCY: Import Administration, International Trade Administration, Department of Commerce.

DATES: Effective Date: April 15, 2009.

FOR FURTHER INFORMATION CONTACT: Alexander Montoro at (202) 482-0238, David Layton at (202) 482-0371, or Joseph Shuler at (202) 482-1293; AD/CVD Operations, Office 1, Import Administration, International Trade Administration, U.S. Department of Commerce, 14th Street and Constitution Avenue, NW., Washington, DC 20230.

SUPPLEMENTARY INFORMATION:

Background

On January 7, 2009, the Department of Commerce (“Department”) published the preliminary results of the administrative review of the antidumping duty order on certain cased pencils from the People's Republic of China, covering the period December 1, 2006 through November 30, 2007. See Certain Cased Pencils from the People's Republic of China; Preliminary Results and Partial Rescission of Antidumping Duty Administrative Review, 74 FR 673 (January 7, 2009) (“Preliminary Results”). The current deadline for the final results of this administrative review is May 7, 2009.

Statutory Time Limits

Section 751(a)(3)(A) of the Tariff Act of 1930, as amended (“the Act”), requires the Department to issue the final results of an administrative review within 120 days of the publication of the preliminary results. If it is not practicable to complete the review within the time period, section 751(a)(3)(A) of the Act allows the Department to extend this deadline to a maximum of 180 days.

Extension of Time Limit for Final Results

The Department requires additional time to complete this review because it conducted verifications after the Preliminary Results. The Department needs to allow time for parties to brief the issues, provide rebuttal comments, conduct a hearing, if requested, and for the Department to consider all the issues raised, including possible complex issues regarding factors of production and surrogate values. Consequently, it is not practicable to complete this review within the original 120-day time limit (i.e., by May 7, 2009). Therefore, the Department is extending the time limit for completion of the final results to not later than July 6, 2009, which is 180 days from the date of publication of the Preliminary Results, in accordance with section 751(a)(3)(A) of the Act.

We are issuing and publishing this notice in accordance with sections 751(a)(3)(A) and 777(i) of the Act.

Dated: April 9, 2009.
John M. Andersen,
Acting Deputy Assistant Secretary for Antidumping and Countervailing Duty Operations.

[FR Doc. E9-8652 Filed 4-14-09; 8:45 am]

BILLING CODE 3510-DS-P